DEPARTMENT OF TRANSPORTATION

Federal Aviation Administration

RTCA Program Management Committee

AGENCY: Federal Aviation Administration (FAA), DOT.

ACTION: Notice of RTCA Program Management Committee meeting.

SUMMARY: The FAA is issuing this notice to advise the public of a meeting of the RTCA Program Management Committee.

DATES: The meeting will be held November 28, 2001 starting at 8:30 am.

ADDRESSES: The meeting will be held at RTCA, Inc., 1828 L Street, NW., Suite 805, Washington, DC, 20036.

FOR FURTHER INFORMATION CONTACT: RTCA Secretariat, 1828 L Street, NW., Suite 850, Washington, DC, 20036; telephone (202) 833-9339; fax (202) 833-9434; web site http://www.rtca.org.

SUPPLEMENTARY INFORMATION: Pursuant to section 10(a)(2) of the Federal Advisory Committee Act (Pub. L. 92-463, 5 U.S.C., Appendix 2), notice is hereby given for a Program Management Committee meeting. The agenda will include:

• November 28:

• Opening Session (Welcome and Introductory Remarks, Review/Approve Summary of Previous Meeting)

• Publication Consideration/Approval:

• Final Draft, Change 2, DO-210D, Minimum Operational Performance Standards (MASPS) for Geosynchronous Orbit Aeronautical Mobile Satellite Services (AMSS) Avionics, RTCA Paper No. 349-01/PMC-180, prepared by SC-165.

• Final Draft, Change 1, DO-262 Minimum Operational Performance Standards (MOPS) for Avionics Supporting Next Generation Satellite Systems (NGSS), RTCA Paper No. 350-01/PMC-181, prepared by SC-165.

• Final Draft, DO-229C, Minimum Operational Performance Standards for Global Positioning System/Wide Area Augmentation System Airborne Equipment, RTCA Paper No. 345-01/PMC-177, prepared by SC-159.

• Final Draft, DO-246B, GNSS Based Precision Approach Local Area Augmentation System (LAAS)—Signal-in-Space Interface Control Document, RTCA Paper No. 346-01/PMC-178, prepared by SC-159.

• Final Draft, DO-253A, Minimum Operational Performance Standards for GPS Local Area Augmentation System Airborne Equipment, RTCA Paper No. 347-01/PMC-179, prepared by SC-159.

• Discussion:

• Special Committee 189, NEXCOM; Update to Terms of Reference.

• Special Committee Chairman's Reports.

• Action Item Review:

• Action Item 06-01, Modular Avionics Special Committee; Status and Recommendations

• Action Item 07-01, Enhancement to TCAS; Proposed Additional Tasking

• Action Item 08-01, DO-181C Revision for “Time Critical” Revision to DO-181C.

• Action Item 09-01, Open SC-165 Issues; Status

• Action Item, 10-01, Portable Electronic Device Request; Status and Recommendations.

• Closing Session (Other Business, Document Production, Date and Place of Next Meeting, Adjourn)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on November 6, 2001.
Janice L. Peters,
FAA Special Assistant, RTCA Advisory Committee.

[FR Doc. 01-28378 Filed 11-9-01; 8:45 am]

BILLING CODE 4410-13-M